DEPARTMENT OF EDUCATION

[CFDA No.: 84.299B]

Indian Education Discretionary Grant Programs—Professional Development

AGENCY: Department of Education.

ACTION: Notice inviting applications for new awards for fiscal year (FY) 2001.

Purpose of Program: The purposes of this program are to (1) increase the number of qualified Indian individuals in professions that serve Indian people; (2) provide training to qualified Indian individuals to become teachers, administrators, teacher aides, social workers, and ancillary educational personnel; and (3) improve the skills of qualified Indian individuals who serve in the capacities described in (2). Activities may include, but are not limited to, continuing programs, symposia, workshops, conferences, and direct financial support.

Grants for training educational personnel may be for preservice or inservice training. For individuals who are being trained to enter any field other than education, the training received must be in a program resulting in a graduate degree.

For FY 2001, the competition for new awards is restricted to projects designed to meet the absolute priority described in the PRIORITY section of this application notice.

Eligible Applicants: Eligible applicants for this program are institutions of higher education, including Indian institutions of higher education; State or local educational agencies, in consortium with institutions of higher education; and Indian tribes or organizations, in consortium with institutions of higher education. An application from a consortium of eligible entities must meet the requirements of 34 CFR 75.127 through 75.129. The written consortium agreement must be submitted with the application. The agreement must be signed or the applicant must submit other evidence that all the members of the consortium agree to the contents of the agreement. Letters of support do not meet the consortium requirements. The Secretary rejects and does not consider an application that does not meet these requirements.

Institutions of higher education, including Indian institutions of higher education, that cannot directly offer the accredited master's level program required to meet the requirements for Absolute Priority #2 must submit a consortium application with an accredited institution of higher education that can offer a master's level degree and program coursework in order to be considered an eligible applicant. The written consortium agreement must be submitted with the application. The agreement must be signed or the applicant must submit other evidence that all the members of the consortium agree to the contents of the agreement. Letters of support do not meet the consortium requirements. The Secretary rejects and does not consider an application that does not meet these requirements.

Deadline for Transmittal of Applications: June 1, 2001.

Deadline for Intergovernmental Review: July 31, 2001.

Applications Available: April 11, 2001.

Absolute Priority: The Secretary reserves all or a portion of the funds available for new awards under the Professional Development program to fund only those applications that meet one of these absolute priorities:

(1) In-Service Administrator Training —

Provide professional development activities to existing administrators that enhance their skills and knowledge in more than one of the following areas—

(a) Standards and assessments;

(b) Integrating reliable, research-based teaching methods and technology into the curriculum;

(c) Mentoring, coaching, and evaluating the performance of teachers;

(d) Site-based management; or

(e) Reform efforts to improve teacher quality.

(2) Pre-Service Administrator Training

(a) Provide support and training to Indian individuals to complete a master degree, within a two-year period, in education administration that allows participants to meet the requirements for state certification or licensure as an education administrator, and

(b) Provide graduates of the program with one year of induction services while they are working in schools with significant Indian student populations.

Note: Funding of a particular project depends on the availability of funds, the requirements of the final priorities selected, and the quality of the applications received. The Secretary reserves up to $1,000,000 or approximately 20 percent of the funds available for new awards for projects that meet Priority 1, and up to $4,000,000 or approximately 80 percent of the funds available for new awards for projects that meet Priority 2.

Available Funds: $5,000,000.

Estimated Range of Awards: $300,000 to $500,000.

Estimated Average Size of Awards: $385,000.

Estimated Number of Awards: 13.

Note: The Department is not bound by any estimates in this notice.

Project Period for Absolute Priority #1 Projects: Up to 24 months. It is the expectation of the Department that all project periods will begin August 1, 2001 with program services beginning with the Fall 2001 academic term.

Project Period for Absolute Priority #2 Projects: Up to 36 months. It is the expectation of the Department that all project periods will begin August 1, 2001 with program services beginning with the Fall 2001 academic term.

Budget Requirement: Projects funded under this competition must budget for a two-day Project Directors' meeting in Washington, DC during each year of the project.

Maximum Annual Award Amount: In no case does the Secretary make an award greater than $500,000 for a single budget period of 12 months for the first 24 months of the award period. For projects addressing Absolute Priority #2, the last 12 months of a 36-month award will be limited to induction services only at a cost not to exceed $60,000 for the third 12-month budget period. The Secretary rejects and does not consider an application that proposes a budget exceeding these maximum amounts or does not budget or plan for induction services.

Page Limit: The application narrative is where an applicant addresses the selection criteria that are used by reviewers in evaluating the application. An applicant must limit the narrative to the equivalent of no more than 75 double-spaced pages, using the following standards:

(1) A “page” is 8 ½″ x 11″ (one side only) with one-inch margins (top, bottom and sides).

(2) All text in the application narrative, including titles, headings, footnotes, quotations, references, and captions, as well as all text in charts, tables, figures, and graphs, must be double-spaced (no more than three lines per vertical inch).

If using a proportional computer font, use no smaller than a 12-point font, and an average character density no greater than 18 characters per inch. If using a nonproportional font or a typewriter, do not use more than 12 characters to the inch.

The page limit does not apply to the cover sheet; the budget section (including the narrative budget justification); the assurances and certifications; or the one-page abstract, appendices, resumes, bibliography, and letters of support. However, all of the application narrative addressing the selection criteria must be included in the narrative section. If, in order to meet the page limit, you use print size, spacing, or margins smaller than the standards specified in this notice, your application will not be reviewed or considered for funding.

Applicable Regulations: (a) The Education Department General Administrative Regulations (EDGAR) in 34 CFR parts 74, 75, 77, 79, 80, 81, 82, 85, 86, 97, 98, and 99; and (b) for the Professional Development Program, the payback provisions of 34 CFR 263.1(b), 263.3, and 263.35 through 263.37. In addition, this program is governed by the notice of final priorities for fiscal year 2000 and subsequent fiscal years as published by the Department of Education in the Federal Register on April 28, 2000 (65 FR 25147-25152).

Selection Criteria: The selection criteria are included in full in the application package for this competition. These selection criteria were established based on the regulations for evaluating discretionary grants found in 34 CFR 75.200 through 75.210.

Fiscal Information: Stipends may be paid only to full-time students. For the payment of stipends to project participants being trained, the Secretary expects to set the stipend maximum at $1000 per month for full-time students and $125 allowance per month per dependent during the academic year. The terms “stipend,” “full-time student,” and “dependent allowance” are defined in 34 CFR 263.3.

Competitive Preference: (1) The Secretary will award five (5) additional points to applications for programs that include only Indian individuals as training participants.

Authority: Section 9122(e)(2); 20 U.S.C. 7832(e)(2).

(2) The Secretary will award five (5) additional points to applications submitted by Indian tribes, organizations, and institutions of higher education. A consortium application of eligible entities that meets the requirements of 34 CFR 75.127 through 75.129 and includes an Indian tribe, organization or institution of higher education shall be considered eligible to receive the five (5) additional priority points.

Authority: 20 U.S.C. 7873.

(3) The Secretary will award a total of five (5) additional points to applications submitted by a consortium of eligible applicants that include a tribal college or university and which designate that tribal college or university as the fiscal agent for the application. The consortium application of eligible entities must meet the requirements of 34 CFR 75.127 through 75.129 of EDGAR to be considered eligible to receive the five priority points. These competitive preference points are in addition to the five competitive preference points that may be given under the Competitive Priority 2—Preference for Indian Applicants.

For Applications Contact: Education Publications Center (ED Pubs), P.O. Box 1398, Jessup, MD 20794-1398. Telephone (toll free): 1-877-433-7827. FAX: (301) 470-1244. If you use a telecommunications device for the deaf (TDD), you may call (toll free): 1-877-576-7734. You may also contact ED Pubs via its Web site (http://www.ed.gov/pubs/edpubs.html) or its E-mail address (edpubs@inet.ed.gov). If you request an application from ED Pubs, be sure to identify this competition as follows: CFDA number 84.299B.

Individuals with disabilities may obtain this document in an alternative format by contacting the Grants and Contracts Services Team, U.S. Department of Education, 400 Maryland Avenue, SW, room 3317, Switzer Building, Washington, DC 20202-2550. Telephone: (202) 205-8351. Individuals who use a telecommunications device for the deaf (TDD), may call the Federal Information Relay Service (FIRS) at 1-888-877-8339. However, the Department is not able to reproduce in an alternate format the standard forms included in the application package.

FOR FURTHER INFORMATION CONTACT: Cathie Martin, Office of Indian Education, U.S. Department of Education, 400 Maryland Avenue, SW, Room 3W115, Washington, DC 20202-6335. Telephone: (202) 260-3774. Internet address: Cathie_Martin@ed.gov.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister.

To use PDF you must have the Adobe Acrobat Reader Program with Search, which is available free at the previous site. If you have questions about using PDF, call the U.S. Government Printing Office toll free at 1-888-293-6498; or in the Washington, DC, area at (202) 512-1530.

Note: The official version of this document is the document published in the Federal Register. Free Internet access to the official edition of the Federal Register and the Code of Federal Regulations is available on GPO Access at: http://www.access.gpo.gov/nara/index.htm.

Program Authority: 20 U.S.C. 7832.

Dated: April 3, 2001.
Thomas M. Corwin,
Acting Deputy Assistant Secretary for Elementary and Secondary Education.

[FR Doc. 01-8558 Filed 4-5-01; 8:45 am]

BILLING CODE 4000-01-U